DEPARTMENT OF ENERGY

Notice of Request for Information: Puerto Rico Energy Resilience Fund

AGENCY: Grid Deployment Office (GDO), Department of Energy.

ACTION: Request for information.

SUMMARY: The U.S. Department of Energy (DOE or the Department) is providing notification of the issuance of a Request for Information (RFI) on the Puerto Rico Energy Resilience Fund authorized by the Consolidated Appropriations Act, 2023. The RFI is seeking input on the Department's program design, specifically qualifying beneficiary criteria, technologies, and deployment priorities. DOE expects to release one or more competitive solicitations in the areas of technology deployment and community engagement, education, and workforce development. Information collected from this RFI will be used by DOE for program planning purposes and the potential development of one or more funding opportunities.

DATES: Responses to this RFI must be received by 5:00 p.m. ET on April 21, 2023.

ADDRESSES: Interested parties may submit comments electronically to PuertoRicoGDO@hq.doe.gov. For information relating to the Puerto Rico Energy Resilience Fund, including a copy of the RFI, please see https://www.energy.gov/gdo/puerto-rico-energy-resilience-fund.

Instructions: Responses must be provided as attachment(s) to an email. It is recommended that attachments with file sizes exceeding 25MB be compressed (i.e., zipped) to ensure message delivery. Responses must be provided as a Microsoft Word (.docx) attachment to the email, no more than 20 pages in length, 12-point font, 1-inch margins. Please identify your answers by responding to a specific question or topic. Respondents may answer as many or as few questions as they wish.

FOR FURTHER INFORMATION CONTACT: For more information regarding the RFI, please contact Eric Britton, (240)-364-4719, PuertoRicoGDO@hq.doe.gov.

SUPPLEMENTARY INFORMATION:

Background

The Consolidated Appropriations Act, Public Law 117-328, authorizes $1 billion to the Secretary of Energy to carry out activities to improve the resilience of the Puerto Rican electric grid, including grants for low- and moderate-income households and households that include individuals with disabilities for the purchase and installation of renewable energy, energy storage, and other grid technologies. DOE expects to release one or more competitive solicitations in the areas of technology deployment and community engagement, education, and workforce development. The RFI describes the program design and seeks public input on:

1. Technology & Engineering

2. Beneficiary & Community Considerations

3. Financial Assistance

4. Technical Assistance, Capacity Building, and Workforce Development; and

5. Monitoring, Evaluation, Auditing

The RFI is available in English: https://www.energy.gov/sites/default/files/2023-02/Puerto%20Rico%20Energy%20Resilience%20Fund%20RFI%20-%2002.21.23_0.pdf. The RFI is available in Spanish: https://www.energy.gov/sites/default/files/2023-02/Fondo%20de%20Resiliencia%20Energ%C3%A9tica%20RFI%20-%2002.21.23lowbar;0.pdf. For information relating to the Puerto Rico Energy Resilience Fund, including a copy of the RFI, please see https://www.energy.gov/gdo/puerto-rico-energy-resilience-fund.

Proprietary and Confidential Information

Because information received in response to this RFI may be used to structure future programs and grants and/or otherwise be made available to the public, respondents are strongly advised NOT to include any information in their responses that might be considered business sensitive, proprietary, or otherwise confidential. If, however, a respondent chooses to submit business sensitive, proprietary, or otherwise confidential information, it must be clearly and conspicuously marked as such in the response. Responses containing confidential, proprietary, or privileged information must be conspicuously marked as described below. Failure to comply with these marking requirements may result in the disclosure of the unmarked information under the Freedom of Information Act or otherwise. The U.S. Federal Government is not liable for the disclosure or use of unmarked information and may use or disclose such information for any purpose.

If your response contains confidential, proprietary, or privileged information, you must include a cover sheet marked as follows identifying the specific pages containing confidential, proprietary, or privileged information:

Notice of Restriction on Disclosure and Use of Data: Pages [List Applicable Pages] of this response may contain confidential, proprietary, or privileged information that is exempt from public disclosure. Such information shall be used or disclosed only for the purposes described in this RFI. The Government may use or disclose any information that is not appropriately marked or otherwise restricted, regardless of source.

Signing Authority

This document of the Department of Energy was signed on March 15, 2023, by Maria D. Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 16, 2023.
Treena V. Garrett,
Federal Register Liaison Officer, U.S. Department of Energy.

[FR Doc. 2023-05737 Filed 3-20-23; 8:45 am]

BILLING CODE 6450-01-P